DEPARTMENT OF VETERANS AFFAIRS

[OMB Control No. 2900-0565]

Agency Information Collection Activity Under OMB Review: State Application for Interment Allowance

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before February 9, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0565” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0565” in any correspondence.

SUPPLEMENTARY INFORMATION:

Authority: 38 U.S.C. 2302 and 2303.

Title: State Application for Interment Allowance Under 38 U.S.C. Chapter 23 (VA Form 21P-530a).

OMB Control Number: 2900-0565.

Type of Review: Extension without change of a currently approved collection.

Abstract: VA Form 21P-530A is used to gather information that is necessary to determine whether a State is eligible for interment allowances for eligible veterans who have been buried in a State Veteran's cemetery. Without this information, VA would be unable to properly determine eligibility and pay benefits due to a State. This form solicits information necessary to determine eligibility to internment allowance benefits.

An agency may not conduct or sponsor, and a person is not required to respond to a collection of information unless it displays a currently valid OMB control number. The Federal Register Notice with a 60-day comment period soliciting comments on this collection of information was published at Vol. 82, No. 205, Wednesday, October 25, 2017, pages 49482-49483.

Affected Public: State, Local, and Tribal Governments.

Estimated Annual Burden: 1,550 hours.

Estimated Average Burden per Respondent: 30 minutes.

Frequency of Response: Once.

Estimated Number of Respondents: 3,100.

By direction of the Secretary.
Cynthia Harvey-Pryor,
Department Clearance Officer, Office of Quality, Privacy and Risk, Department of Veterans Affairs.

[FR Doc. 2018-00231 Filed 1-9-18; 8:45 am]

BILLING CODE 8320-01-P